DEPARTMENT OF HEALTH AND HUMAN SERVICES

National Institutes of Health

Center for Scientific Review; Amended Notice of Meeting

Notice is hereby given of a change in the meeting of the Cellular, Molecular and Integrative Reproduction Study Section, February 19, 2020, 8:00 a.m. to February 20, 2020, 5:00 p.m. at the Embassy Suites Alexandria Old Town, 1900 Diagonal Road, Alexandria, VA 22314, which was published in the Federal Register on January 27, 2020, 85 FR 4672.

The Contact Person for this meeting has been changed to Elaine Sierra-Rivera, Ph.D., Scientific Review Officer, Phone (301) 435-1053, email: riverase@csr.nih.gov. The meeting date and time remain the same. The meeting is closed to the public.

Dated: February 3, 2020.
Melanie J. Pantoja,
Program Analyst, Office of Federal Advisory Committee Policy.

[FR Doc. 2020-02400 Filed 2-6-20; 8:45 am]

BILLING CODE 4140-01-P